ENVIRONMENTAL PROTECTION AGENCY

[ORD-2005-0003; FRL-7988-9]

Agency Information Collection Activities; Submission to OMB for Review and Approval; Comment Request; Market-Based Stormwater Management in the Shepherd Creek Watershed in Cincinnati, OH, EPA ICR Number 2178.01

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request for a new collection. This ICR describes the nature of the information collection and its estimated burden and cost.

DATES: Additional comments may be submitted on or before November 25, 2005.

ADDRESSES: Submit your comments, referencing docket ID number ORD-2005-0003, to (1) EPA online using EDOCKET (our preferred method), by e-mail to ord.docket@epa.gov, or by mail to: EPA Docket Center, Environmental Protection Agency, ORD Docket, Mail Code 28221T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Hale W. Thurston, ORD, NRMRL, Mail Code 499, 26 W. Martin Luther King Jr. Drive, Cincinnati, OH, 45268; telephone number: 513.569.7627; fax number: 513.487.2511; e-mail address: thurston.hale@epa.gov.

SUPPLEMENTARY INFORMATION: EPA has submitted the following ICR to OMB for review and approval according to the procedures prescribed in 5 CFR 1320.12. On Wednesday, July 13, 2005 (70 FR 40329), EPA sought comments on this ICR pursuant to 5 CFR 1320.8(d). EPA received no comments.

EPA has established a public docket for this ICR under Docket ID No. ORD-2005-0003, which is available for public viewing at the ORD Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the ORD Docket is (202) 566-1752. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Market-based Stormwater Management in the Shepherd Creek Watershed in Cincinnati, Ohio.

Abstract: The Sustainable Technology Division (STD) of the National Risk Management Research Laboratory (NRMRL) in the Office of Research and Development (ORD) of the U.S. Environmental Protection Agency (EPA) is proposing to conduct a survey of individual property owners in the Shepherd Creek watershed in Cincinnati, OH. The survey will elicit how residents value the voluntary adoption of on-site best management practices as part of a comprehensive stormwater runoff control policy. The focus will be on estimating the minimum payment required to induce individual landowners to devote a portion of their property to runoff reducing best management practices.

This data collection is motivated by the current stormwater related problems within the United States in general, and in the greater Cincinnati metropolitan area in particular. Urban and suburban development changes the natural landscape making it more impervious to rain and snow. The resulting stormwater runoff is one of the most significant contributors to water quality degradation in the United States through larger and more frequent floods, increased erosion of stream beds and banks, disruption of natural habitat in receiving waters, and increased pollution loadings of metals, toxics, and nutrients. Precipitation falls over large geographic areas, and the resulting runoff will flow across a myriad of parcels with varying land uses, which are, in turn, under the control of numerous property owners. Perhaps in reaction to these conditions, stormwater control policies have concentrated on solutions that build centralized capacity to direct and hold excess runoff within the storm sewer system. An alternative approach to stormwater control would be to develop a decentralized approach that disperses runoff detention throughout the watershed, thus reducing runoff before it reaches the sewer system. This approach promises both hydrological benefits of reducing the in-stream damages that will continue to occur in a centralized system, as well as potential cost-savings in terms of meeting environmental quality standards.

Although the installation, operation, and maintenance costs for best management practices are relatively well known, these are only a portion of the total costs of adoption. The opportunity costs (e.g.: the costs of partial loss of use of property) associated with BMP adoption are privately held by individual landowners, and can potentially comprise the largest share of total abatement adoption costs. To better understand the economic potential of a voluntary and decentralized runoff control program, it is necessary to assess the opportunity costs associated with best management practice adoption. The proposed survey provides a means of gathering this information. It also asks 10-12 non-invasive demographic questions.

The survey will be conducted using six (6) groups of ten (10) residential landowners from the Shepherd Creek watershed. Participation will be completely voluntary. Residents who wish to participate in the study will be identified and recruited through a liaison from the Hamilton County Soil and Water Conservation District, who is familiar with the community. The survey will be conducted using a computer simulated nonuniform-price, sequential auction for the procurement of best management practices. Participants will be presented with a selection of best management practices that are feasible for use on their actual parcel. Information regarding how each BMP will perform on their specific parcel, as well as the installation, operation, and maintenance costs will be provided. The auction is designed to compensate residents for their costs of adopting best management practices on their property. Participants who wish to adopt BMPs will submit bids that consist of the size and type of the BMPs and the minimum compensation that they require. The goal is to pay those landowners who adopt the most effective best management practices at the lowest price. Survey results will then be used to estimate the minimum payments required to achieve control stormwater runoff through on-site best management practices. Data will be stored on U.S. Environmental Protection Agency computer files that protect respondent confidentiality. Summary results will be made available to the public.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Homeowners in the Shepherd Creek Area of Cincinnati, OH.

Estimated Number of Respondents: 60.

Frequency of Response: On Occasion.

Estimated Total Annual Hour Burden: 120.

Estimated Total Annual Cost: $3,000, includes $0 annualized capital or O&M costs.

Dated: October 19, 2005.
Sara Hisel McCoy,
Acting Director, Collection Strategies Division.

[FR Doc. 05-21373 Filed 10-25-05; 8:45 am]

BILLING CODE 6560-50-P